DEPARTMENT OF COMMERCE

National Oceanic and Atmospheric Administration

50 CFR Part 665

RIN 0648-AX76

Fisheries in the Western Pacific; Community Development Program Process

AGENCY: National Marine Fisheries Service (NMFS), National Oceanic and Atmospheric Administration (NOAA), Commerce.

ACTION: Notice of availability of fishery ecosystem plan amendments; request for comments.

SUMMARY: NMFS announces that the Western Pacific Fishery Management Council (Council) proposes to amend the fishery ecosystem plans (FEPs) for American Samoa, Hawaii, Marianas, and western Pacific Pelagics. If approved by the Secretary of Commerce (Secretary), the amendments would establish requirements and procedures for reviewing and approving community development plans for access to western Pacific fisheries. The intent of the amendments is to promote the participation of island communities in fisheries that they have traditionally depended upon, but may not have the capabilities to support continued and substantial participation in, possibly due to economic, regulatory, or other constraints.

DATES: Comments on the amendments must be received by July 20, 2010.

ADDRESSES: Comments on the amendments, identified by 0648-AX76, may be sent to either of the following addresses:

• Electronic Submission: Submit all electronic public comments via the Federal e-Rulemaking Portal www.regulations.gov; or

• Mail: Mail written comments to William L. Robinson, Regional Administrator, NMFS, Pacific Islands Region (PIR), 1601 Kapiolani Blvd, Suite 1110, Honolulu, HI 96814-4700.

Instructions: Comments must be submitted to one of these two addresses to ensure that the comments are received, documented, and considered by NMFS. Comments sent to any other address or individual, or received after the end of the comment period, may not be considered. Comments will be posted for public viewing after thecomment period has closed. All comments received are a part of the public record and will generally be posted to www.regulations.gov without change. All personal identifying information (e.g., name, address, etc.) submitted voluntarily by the commenter may be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

Copies of the amendments (which are identical for all four FEPs) containing background information on the issue are available from www.regulations.gov and from the Council, 1164 Bishop St., Suite 1400, Honolulu, HI 96813, tel 808-522-8220, fax 808-522-8226, or web site www.wpcouncil.org.

FOR FURTHER INFORMATION CONTACT: Jarad Makaiau, NMFS PIR Sustainable Fisheries, 808-944-2108.

SUPPLEMENTARY INFORMATION: This document is also available at www.gpoaccess.gov/fr.

Section 305(i)(2) of the Magnuson-Stevens Act authorizes the Council and the Secretary, through NMFS, to establish a community development program for western Pacific fisheries. The intent of the program is to provide western Pacific communities access to fisheries that they have traditionally depended upon, but may not have the capabilities to support continued and substantial participation in, possibly due to economic, regulatory, or other constraints.

In 2002, NMFS announced the eligibility criteria for participating in the program (67 FR 18512; April 16, 2002). To participate in the program, communities are required to develop and submit a development plan, but there is currently no mechanism to solicit, review, and approve these plans. To address this issue, the Council developed and submitted to NMFS for review, amendments to the FEPs for American Samoa, Hawaii, the Mariana Archipelago, and western Pacific Pelagics to establish such a mechanism. The amendments are identical for each FEP.

To be eligible for the community development program, a community must:

1. Be located in American Samoa, Guam, Hawaii, or the Northern Mariana Islands (collectively, the western Pacific);

2. Consist of community residents descended from aboriginal people indigenous to the western Pacific area who conducted commercial or subsistence fishing using traditional fishing practices in the waters of the western Pacific;

3. Consist of individuals who reside in their ancestral homeland;

4. Have knowledge of customary practices relevant to fisheries of the western Pacific;

5. Have a traditional dependence on fisheries of the western Pacific;

6. Are experiencing economic or other constraints that prevent full participation in the western Pacific fisheries and, in recent years, have not had harvesting, processing or marketing capability sufficient to support substantial participation in fisheries in the area; and

7. Develop and submit a community development plan to the Council and NMFS.

Each community development plan must contain the following information:

1. A statement of the purpose and goals of the plan;

2. A description of, and justification for, the proposed fishing activity;

3. The location of the proposed fishing activity;

4. The species to be harvested, directly and incidentally;

5. The gear type(s) to be used;

6. The frequency and duration of the proposed fishing activity; and

7. A statement describing the degree of involvement by the indigenous community members including the name, address, telephone and other contact information of each person who would conduct the proposed fishing activity, and a description of how the community and or its members meet each of the eligibility criteria.

If a vessel is to be used by the community to conduct fishing activities, the plan must include the vessel name and official number (USCG documentation, state, territory, or other registration number), length, displacement, fish holding capacity, any valid federal fishing permit number, and the name and contact information of the owner(s) and operator(s).

The amendments would require the Council to review each plan to ensure that it meets the intent of Section 305(i)(2) of the Magnuson-Stevens Act and contains all of the required information. If the Council finds these requirements are met, the Council would then forward the plan to the NMFS Regional Administrator for review.

The Regional Administrator would review each plan to ensure it is consistent with the FEPs, Magnuson-Stevens Act, and other applicable laws. NMFS would then publish a notice in the Federal Register to solicit public comment on the plan and associated environmental review documents. Within 90 days after the close of the public comment period, the Regional Administrator would notify the applicant in writing of the decision to approve or disapprove the community development plan. If the plan is approved, the Regional Administrator would publish a notice in the Federal Register describing the plan's authorized activities. The Regional Administrator may attach limiting terms and conditions to the authorization for proper management and monitoring of the fishing activity, including, but not limited to, catch and trip limits, times and places where fishing may or may not be conducted, vessel monitoring system, observers, and/or reporting requirements.

Public comments on the proposed amendments must be received by July 20, 2010 to be considered by NMFS in the decision to approve, partially approve, or disapprove the amendments. A proposed rule to implement the measures recommended in the amendment has been prepared for Secretarial review and approval. NMFS expect to publish and request public comment on the proposed rule in the near future.

Authority: 16 U.S.C. 1801 et seq.

Dated: May 17, 2010.
James P. Burgess,
Acting Director, Office of Sustainable Fisheries, National Marine Fisheries Service.

[FR Doc. 2010-12283 Filed 5-20-10; 8:45 am]

BILLING CODE 3510-22-S